DEPARTMENT OF ENERGY

Federal Energy Regulatory Commission

[Docket No. CP05-8-000]

Starks Gas Storage L.L.C.; Notice of Availability of the Environmental Assessment for the Proposed Starks Gas Storage Project

June 2, 2005.

The staff of the Federal Energy Regulatory Commission (FERC or Commission) has prepared an environmental assessment (EA) on the natural gas pipeline facilities proposed by Starks Gas Storage L.L.C. (Starks Gas Storage) in the above-referenced docket number.

The EA was prepared to satisfy the requirements of the National Environmental Policy Act. The staff concludes that approval of the proposed project, with appropriate mitigating measures, would not constitute a major Federal action significantly affecting the quality of the human environment.

The EA assesses the potential environmental effects of the construction and operation of the proposed Starks Gas Storage Project in Calcasieu and Beauregard Parishes, Louisiana. The Starks Gas Storage Project would initially utilize Starks No. 1 cavern to store approximately 13.3 billion cubic feet (Bcf) of natural gas, comprised of approximately 8.8 Bcf of working or top gas and approximately 4.5 Bcf of base or cushion gas. Facilities would be designed to allow cycling of the entire storage volume 5 to 6 times per year with injections and withdrawals of approximately 400 million cubic feet per day (MMcfd). Starks No. 2 cavern would be available for similar conversion to gas storage approximately 18 months later, adding an incremental working gas volume of approximately 10.4 Bcf and approximately 5.3 Bcf of base gas and the overall project injection and withdrawal rates would double. The total storage volume of Starks No. 2 cavern would be approximately 15.6 Bcf.

In Docket No. CP05-8-000, Starks Gas Storage proposes to construct, operate, and maintain the following facilities. The proposed natural gas and brine disposal pipelines connected with the future natural gas storage caverns and debrining operations of the existing brine wells west of the proposed Starks Compressor Station are designated as mileposts (MP) 0.00—0.68 on Segment 1. The proposed natural gas and brine disposal pipelines east of the proposed Starks Compressor Station are designated as MPs 0.00-33.77 on Segments 2 and 3. The proposed facilities include:

• Conversion of two existing brine extraction wells (formerly called PPG-10 and PPG-9) to natural gas storage caverns (Starks No. 1 at MP 0.68 and Starks No. 2 at MP 0.47, respectively, on Segment 1) with a combined maximum capacity to store approximately 28.9 Bcf of natural gas, comprised of approximately 19.2 Bcf of working capacity and approximately 9.7 Bcf of cushion gas, with withdrawal rates of 800 million cubic feet per day (MMcfd) and peak injection rates of 750 MMcfd;

• About 0.88 mile of two new 16-inch diameter natural gas pipelines and two new collocated 10-inch diameter brine disposal pipelines associated with the interconnects on the Starks salt dome west of the Starks Compressor Station from MP 0.00 to 0.68 (identified as Segment 1);

• About 1.80 miles of new 30-inch diameter natural gas pipeline from the Starks Compressor Station to the Tennessee Gas Pipeline Company (Tennessee Gas) interconnect from MP 0.0 to MP 1.8 (identified as Segment 2) and about 1.2 miles of new collocated 10-inch diameter brine disposal line from the Starks Compressor Station to the salt water disposal (SWD) injection wells from MP 0.00 to 1.21 (identified as Segment 2a);

• About 31.97 miles (a continuation) of the new 30-inch diameter natural gas pipeline from the Tennessee Gas interconnect terminating at the Texas Eastern Transmission LP (Texas Eastern) interconnect in Beauregard Parish from MP 1.80 to 33.77 (identified as Segment 3);

• A new compressor station with dehydration facilities (Starks Compressor Station) at MP 0.00, including seven natural gas fueled reciprocating engine driven reciprocating compressor units each rated at 4,735 brake horsepower (BHP), with seven exhaust noise silencers with integral emission control catalysts, and related piping, valves, controls, and buildings; two triethylene glycol (TEG) dehydration units and appurtenant, auxiliary facilities with one vapor recovery/condensing unit and one thermal oxidizer;

• Three new interconnect valve stations connecting to existing natural gas pipelines at the Tennessee Gas (MP 1.80), Transco (MP 29.80), and Texas Eastern pipelines (MP 33.77) on Segments 2 and 3;

• Three temporary natural gas fueled reciprocating engine driven reciprocating compressor units each rated at 1,150 BHP, with three exhaust noise silencers with integral emission control catalysts for dewatering existing brine extraction well (PPG-9), located at the Starks Compressor Station;

• Three new natural gas fueled reciprocating engine driven centrifugal multi-stage pumps rated at 860 BHP, with three exhaust noise silencers with integral emission control catalysts for injecting dewatered brine from the caverns into two disposal wells, located at the Starks Compressor Station;

• Two new brine injection (SWD) wells, MP 1.21 on Segment 2, located on a two-acre tract to dispose of any surplus brine removed from the two caverns as they are converted to gas storage service; and

• One temporary skid mounted brine disposal meter system, first located at Starks No. 1 (MP 0.68) and then at Starks No. 2 (MP 0.47) on Segment 1.

The EA has been placed in the public files of the FERC. A limited number of copies of the EA are available for distribution and public inspection at: Federal Energy Regulatory Commission, Public Reference and Files Maintenance Branch, 888 First Street, NE., Room 2A, Washington, DC 20426. (202) 502-8371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send an original and two copies of your comments to: Secretary, Federal Energy Regulatory Commission, 888 First St., NE., Room 1A, Washington, DC 20426.

• Label one copy of the comments for the attention of the Gas Branch 2, PJ11.2.

• Reference Docket No. CP05-8-000; and

• Mail your comments so that they will be received in Washington, DC on or before July 5, 2005.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Sign-up.”

Comments will be considered by the Commission but will not serve to make the commentor a party to the proceeding. Any person seeking to become a party to the proceeding must file a motion to intervene pursuant to Rule 214 of the Commission's Rules of Practice and Procedures (18 CFR 385.214).¹ Only intervenors have the right to see rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Linda Mitry,
Deputy Secretary.

[FR Doc. E5-2921 Filed 6-7-05; 8:45 am]

BILLING CODE 6717-01-P